DEPARTMENT OF HEALTH AND HUMAN SERVICES

Health Resources and Services Administration

Agency Information Collection Activities: Submission to OMB for Review and Approval; Public Comment Request; Health Center Program Forms, OMB No. 0915-0285—Revision

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR should be received no later than January 27, 2020.

ADDRESSES: Submit your comments, including the ICR Title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Health Center Program Forms OMB No. 0915-0285—Revision.

Abstract: The Health Center Program, administered by HRSA, is authorized under section 330 of the Public Health Service (PHS) Act, most recently amended by section 50901(b) of the Bipartisan Budget Act of 2018, Public Law 115-123. Health centers are community-based and patient-directed organizations that deliver affordable, accessible, quality, and cost-effective primary health care services to patients regardless of their ability to pay. Nearly 1,400 health centers operate approximately 12,000 service delivery sites that provide primary health care to more than 27 million people in every U.S. state, the District of Columbia, Puerto Rico, the U.S. Virgin Islands, and the Pacific Basin. HRSA utilizes forms for new and existing health centers and other entities to apply for various grant and non-grant opportunities, renew grant and non-grant designations, report progress, and change their scopes of project.

A 60-day notice was published in the Federal Register on April 8, 2019, vol. 84, No. 67; pp. 13937-38. No public comments were received.

Need and Proposed Use of the Information: Health Center Program-specific forms are necessary for Health Center Program award processes and oversight. These forms provide HRSA staff and objective review committee panels with information essential for application evaluation, funding recommendation and approval, designation, and monitoring. These forms also provide HRSA staff with information essential for evaluating compliance with Health Center Program legislative and regulatory requirements.

HRSA intends to make several changes to its forms:

• HRSA will modify the following forms to streamline and clarify data (e.g., text changes, updated instructions) currently being collected: 1A, 1B, 1C, 2, 3, 3A, 4, 5A, 5B, 5C, 6A, 8, 12, Checklist for Adding a New Service, Checklist for Adding a New Service Delivery Site, Checklist for Adding a New Target Population, Checklist for Deleting Existing Service, Checklist for Deleting Existing Service Delivery Site, Clinical Performance Measures, Equipment List, Expanded Services, Federal Object Class Categories, Financial Performance Measures, Funding Sources, Health Center Controlled Networks (HCCN) Progress Report Table, Operational Plan, Program Specific Forms Instructions, Project Qualification Criteria, Project Work Plan, Proposal Cover Page, and the Summary Page.

• HRSA will rename the following forms: Substance Abuse Progress Report will be changed to Health Center Program Progress Report, Program Narrative Update will be changed to Project Narrative Update, and Outreach and Enrollment Supplemental form will be changed to Health Center Program: Supplemental Information.

• HRSA will add the following forms to collect information to support funding applications and program monitoring: Capital Semi-Annual Progress Report, Diabetes Action Plan Quarterly Report Template, FY 2018 Expanding Access to Quality Substance Use Disorder and Mental Health Services (SUD-MH)/Integrated Behavioral Health Services (IBHS) Progress Reporting, FY2020 Ending the HIV Epidemic—Primary Care HIV Prevention Progress Reporting, HRSA Electronic Handbooks Action Plan, HRSA Loan Guarantee Program Application, Participating Health Center List, Patient Target and Calculations, Project Overview, and Project Plan.

• HRSA will remove the following forms to further streamline information collected by HRSA and reduce burden: Alterations and Renovations Project Cover Page, Form 9: Need for Assistance, Form 10: Annual Emergency Preparedness Report, HCCN Work Plan, and Zika Progress Report.

Since the submission of the 60-day Federal Register notice (FRN), there are 5 additional new forms (for a total of 10 new forms) due to new initiatives that required clearance (2 HIV funding-related forms, 2 diabetes funding-related forms, and 1 HCCN funding-related form); the data needed for the new initiatives could not be captured in forms previously approved. Please note, the 60-day FRN included one form identified as “new” (Project Work Plan); however, that form was actually included in the previous OMB package submitted in 2017. The correction has been made in this 30-day FRN and this form is no longer listed as new in this documentation.

The 60-day FRN request contained 42,530 burden hours. However, this final 30-day notice includes an additional 16,712 burden hours, for a new total of 59,242 burden hours.

Likely Respondents: Health Center Program award recipients (those funded under section 330 of the PHS Act); Health Center Program look-alikes; state and national trade associations; and other organizations seeking Health Center Program funding.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Capital Semi-Annual Progress Report (new) | 996 | 2 | 1,992 | 1.00 | 1,992
Checklist for Adding a New Service | 450 | 1 | 450 | 2.00 | 900
Checklist for Adding a New Service Delivery Site | 1,480 | 1 | 1,480 | 2.00 | 2,960
Checklist for Adding a New Target Population | 100 | 1 | 100 | 2.00 | 200
Checklist for Deleting Existing Service | 500 | 1 | 500 | 2.00 | 1,000
Checklist for Deleting Existing Service Delivery Site | 750 | 1 | 750 | 2.00 | 1,500
Clinical Performance Measures | 1,058 | 1 | 1,058 | 3.50 | 3,703
Diabetes Action Plan—Quarterly Report Template (new) | 1,058 | 4 | 4,232 | 2.00 | 8,464
Equipment List | 1,375 | 1 | 1,375 | 1.00 | 1,375
Expanded Services | 996 | 1 | 996 | 1.00 | 996
Federal Object Class Categories | 735 | 1 | 735 | 0.25 | 184
Financial Performance Measures | 1,058 | 1 | 1,058 | 1.50 | 1,587
Form 1A: General Information Worksheet | 1,058 | 1 | 1,058 | 1.00 | 1,058
Form 1B: BPHC Funding Request Summary | 1,000 | 1 | 1,000 | 0.75 | 750
Form 1C: Documents on File | 1,058 | 1 | 1,058 | 0.50 | 529
Form 2: Staffing Profile | 1,058 | 1 | 1,058 | 1.00 | 1,058
Form 3: Income Analysis | 1,058 | 1 | 1,058 | 1.00 | 1,058
Form 3A: FQHC Look-Alike Budget Information | 50 | 1 | 50 | 1.00 | 50
Form 4: Community Characteristics | 1,058 | 1 | 1,058 | 1.00 | 1,058
Form 5A: Services Provided | 1,058 | 1 | 1,058 | 1.00 | 1,058
Form 5B: Service Sites | 1,508 | 1 | 1,508 | 1.00 | 1,508
Form 5C: Other Activities/Locations | 1,058 | 1 | 1,058 | 0.50 | 529
Form 6A: Current Board Member Characteristics | 1,058 | 1 | 1,058 | 1.00 | 1,058
Form 6B: Request for Waiver of Board Member Requirements | 1,058 | 1 | 1,058 | 1.00 | 1,058
Form 8: Health Center Agreements | 1,058 | 1 | 1,058 | 1.00 | 1,058
Form 12: Organization Contacts | 1,058 | 1 | 1,058 | 0.50 | 529
Funding Sources | 735 | 1 | 735 | 0.50 | 368
FY2018 Expanding Access to Quality SUD-MH/IBHS Progress Reporting (new) | 1,375 | 3 | 4,125 | 1.00 | 4,125
FY2020 Ending the HIV Epidemic—Primary Care HIV Prevention Progress Reporting (new) | 182 | 1 | 182 | 1.00 | 182
HCCN Progress Report Table | 90 | 1 | 90 | 1.00 | 90
Health Center Program Progress Report (previously Substance Abuse Progress Report) | 735 | 1 | 735 | 1.00 | 735
Health Center Program: Supplemental Information (previously Outreach and Enrollment Supplemental Form) | 500 | 1 | 500 | 1.00 | 500
HRSA Electronic Handbooks Action Plan (new) | 1,058 | 4 | 4,232 | 1.00 | 4,232
HRSA Loan Guarantee Program Application (new) | 20 | 1 | 20 | 1.00 | 20
Operational Plan | 500 | 1 | 500 | 3.00 | 1,500
Other Requirements for Sites | 600 | 1 | 600 | 0.50 | 300
Participating Health Center List (new) | 90 | 1 | 90 | 1.00 | 90
Patient Target and Calculations (new) | 1,058 | 1 | 1,058 | 1.00 | 1,058
Program Specific Forms Instructions | 1,500 | 1 | 1,500 | 1.00 | 1,500
Project Narrative Update (previously Program Narrative Update) | 883 | 1 | 883 | 4.00 | 3,532
Project Overview (new) | 182 | 1 | 182 | 1.00 | 182
Project Plan (new) | 182 | 3 | 546 | 1.50 | 819
Project Qualification Criteria | 735 | 1 | 735 | 1.00 | 735
Project Work Plan | 135 | 1 | 135 | 4.00 | 540
Proposal Cover Page | 735 | 1 | 735 | 1.00 | 735
Summary Page | 1,558 | 1 | 1,558 | 0.50 | 779
Total Hours | 37,605 |  | 48,063 |  | 59,242

Maria G. Button,
Director, Executive Secretariat.

[FR Doc. 2019-27909 Filed 12-26-19; 8:45 am]

BILLING CODE 4165-15-P